DEPARTMENT OF LABOR

Employee Benefits Security Administration

Application Nos. and Proposed Exemptions; D-11489, Morgan Stanley & Co., Incorporated; L-11609, The Finishing Trades Institute of the Mid-Atlantic Region (the Plan) et al.

Correction

In notice document 2010-16096 beginning on page 38557 in the issue of Friday, July 2, 1010, make the following corrections:

1. On page 38557, in the third column, insert: “Morgan Stanley & Co. Incorporated Located in New York, New York [Application No. D-11489]” above the heading Proposed Exemption.

2. On page 38561, in the first column, insert: “The Finishing Trades Institute of the Mid-Atlantic Region (the Plan) Located in Philadelphia, Pennsylvania [Application No. L-11609]” above the heading Proposed Exemption.

[FR Doc. C1-2010-16096 Filed 7-9-10; 8:45 am]

BILLING CODE 1505-01-D